DEPARTMENT OF COMMERCE

International Trade Administration

[A-533-809, A-583-821]

Forged Stainless Steel Flanges From India and Taiwan: Final Results of Sunset Reviews and Revocation of Antidumping Duty Orders

AGENCY: Import Administration, International Trade Administration, Department of Commerce.

SUMMARY: On November 1, 2010, the Department of Commerce (the Department) initiated the sunset review of the antidumping duty orders on forged stainless steel flanges from India and Taiwan. Because the domestic interested parties did not participate in these sunset reviews, the Department is revoking these antidumping duty orders.

DATES: Effective Date: January 23, 2011.

FOR FURTHER INFORMATION CONTACT: Robert James or Deborah Scott, AD/CVD Operations, Import Administration, International Trade Administration, U.S. Department of Commerce, 14th Street and Constitution Avenue, NW., Washington, DC 20230; telephone: (202) 482-0649 or (202) 482-2657, respectively.

SUPPLEMENTARY INFORMATION:

Background

On February 9, 1994, the Department issued antidumping duty orders on certain forged stainless steel flanges from India and Taiwan. See Amended Final Determination and Antidumping Duty Order; Certain Forged Stainless Steel Flanges From India, 59 FR 5994 (February 9, 1994) and Antidumping Duty Order: Certain Forged Stainless Steel Flanges From Taiwan, 59 FR 5995 (February 9, 1994). On January 23, 2006, the Department published its most recent continuation of the orders. See Continuation of Antidumping Duty Orders: Forged Stainless Steel Flanges from India and Taiwan, 71 FR 3457 (January 23, 2006) (Notice of Continuation). On November 1, 2010, the Department initiated sunset reviews of these orders. See Initiation of Five-Year (“Sunset”) Review, 75 FR 67082 (November 1, 2010).

We did not receive a notice of intent to participate from domestic interested parties in these sunset reviews by the deadline date. As a result, in accordance with 19 CFR 351.218(d)(1)(iii)(A), the Department determined that no domestic interested party intends to participate in these sunset reviews, and on November 22, 2010,¹ we notified the International Trade Commission, in writing, that we intended to issue a final determination revoking these antidumping duty orders. See 19 CFR 351.218(d)(1)(iii)(B)(2).

¹ The deadline for this notification fell on November 21, 2010, a Sunday. Accordingly, we notified the International Trade Commission on the next business day.

Scope of the Orders

The products covered by these orders are certain forged stainless steel flanges, both finished and not finished, generally manufactured to specification ASTM A-182, and made in alloys such as 304, 304L, 316, and 316L. The scope includes five general types of flanges. They are weld-neck, used for butt-weld line connections; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of these orders are cast stainless steel flanges. Cast stainless steel flanges generally are manufactured to specification ASTM A-351. The flanges subject to these orders are currently classifiable under subheadings 7307.21.1000 and 7307.21.5000 of the Harmonized Tariff Schedule of the United States (HTSUS). Although the HTSUS subheadings are provided for convenience and customs purposes, the written description of the merchandise subject to these orders is dispositive of whether or not the merchandise is covered by the scope of the orders.

Determination To Revoke and Effective Date of Revocation

Pursuant to section 751(c)(3)(A) of the Tariff Act of 1930, as amended (the Act) and 19 CFR 351.218(d)(1)(iii)(B)(3), if no domestic interested party files a notice of intent to participate, the Department shall, within 90 days after the initiation of the sunset review, issue a final determination revoking the order. Because the domestic interested parties did not file a notice of intent to participate in these sunset reviews, the Department finds that no domestic interested party is participating in these sunset reviews. Therefore, consistent with 19 CFR 351.222(i)(1)(i) and section 751(c)(3)(A) of the Act, we are revoking the antidumping duty orders. The effective date of revocation of these antidumping duty orders is January 23, 2011, the fifth anniversary of the date of publication in the Federal Register of the most recent notice of continuation of this antidumping duty order. See Notice of Continuation.

Termination of Suspension of Liquidation

Pursuant to section 751(c)(3)(A) of the Act and 19 CFR 351.222(i)(2)(i), the Department intends to issue instructions to U.S. Customs and Border Protection, 15 days after publication of this notice, to terminate the suspension of liquidation of the merchandise subject to these orders entered, or withdrawn from warehouse, on or after January 23, 2011. Entries of subject merchandise prior to the effective date of revocation will continue to be subject to suspension of liquidation and antidumping duty deposit requirements. The Department will complete any pending administrative reviews of these orders and will conduct administrative reviews of subject merchandise entered prior to the effective date of revocation in response to appropriately filed requests for review.

These five-year (sunset) reviews and notice are published in accordance with sections 751(c) and 777(i)(1) of the Act.

Dated: January 25, 2011.
Christian Marsh,
Acting Deputy Assistant Secretary for Import Administration.

[FR Doc. 2011-2108 Filed 1-28-11; 8:45 am]

BILLING CODE 3510-DS-P